DEPARTMENT OF HEALTH AND HUMAN SERVICES

Centers for Disease Control and Prevention

[Docket No. CDC-2017-0019]

Notice of Availability of the Draft Environmental Assessment and Public Meeting

AGENCY: Centers for Disease Control and Prevention, HHS.

ACTION: Notice of availability.

SUMMARY: The Centers for Disease Control and Prevention (CDC), within the Department of Health and Human Services (HHS), announces the availability of the Draft Environmental Assessment (Draft EA) for the CDC Chamblee Campus 2025 Master Plan for public review and comment. This notice also announces the date, location and time for the public meeting. The Draft EA analyzes the potential impacts associated with the implementation of the CDC Chamblee Campus 2025 Master Plan (Master Plan) for HHS/CDC's Chamblee Campus located at 4770 Buford Highway, Chamblee, Georgia. This announcement follows the requirements of the National Environmental Policy Act of 1969 (NEPA) as implemented by the Council on Environmental Quality (CEQ) Regulations (40 CFR parts 1500-1508); and, the Department of Health and Human Services (HHS) General Administration Manual Part 30 Environmental Procedures, dated February 25, 2000.

DATES: A public meeting will be held on Wednesday, April 19, 2017 at 2400 Century Center, Century Pkwy. NE., Atlanta, Georgia 30345. The public meeting will consist of an Open House from 6:00 p.m. EST to 8:00 p.m. EST. The meeting will be an open house where attendees can learn more about the Master Plan and Draft EA, ask questions, and submit comments.

Written comments must be received on or before May 22, 2017.

Deadline for Requests for Special Accommodations: Persons wishing to participate in the public meeting who need special accommodations should contact Angela Wagner (amso@cdc.gov or (770) 488-8170) by April 5, 2017.

ADDRESSES: Requests for information on the Draft EA or for a paper/electronic copy should be directed to: Angela Wagner, Portfolio Manager, Centers for Disease Control and Prevention, 1600 Clifton Road NE., MS-K96, Atlanta, Georgia 30329. Telephone: (770) 488-8170 or email: amso@cdc.gov.

The Draft EA will be available on the Federal eRulemaking Portal: http://www.regulations.gov, identified by Docket No. CDC-2017-0019. Hard copies of the Draft EA are also available at locations listed in the Availability of the Draft EA under SUPPLEMENTARY INFORMATION.

You may submit comments identified by Docket No. CDC-2017-0019, by any of the following methods:

• Federal eRulemaking Portal: http://www.regulations.gov. Follow the instructions for submitting comments.

• Mail: Comments submitted by mail should be sent to Angela Wagner, Portfolio Manager, Centers for Disease Control and Prevention, 1600 Clifton Road NE., MS-K96, Atlanta, Georgia 30329, Attn: Docket No. CDC-2017-0019.

Instructions: All submissions received must include the agency name and Docket Number. All relevant comments received will be posted without change to http://www.regulations.gov, including any personal information provided. For access to the docket, to read background documents or comments received, go to www.regulations.gov.

Written comments on the Draft EA will also be accepted during the public meeting scheduled for April 19, 2017, at 2400 Century Center, Century Pkwy. NE., Atlanta, Georgia 30345. Please be advised that the meeting is being held in a location considered a Federal government building; therefore, Federal security measures are applicable. In planning your arrival time, please take into account the need to park and clear security. Visitors must present government issued photo identification (e.g., a valid Federal identification badge, state driver's license, state non-driver's identification card, or passport). Non-United States citizens must present a valid passport, visa, Permanent Resident Card, or other type of work authorization document. All persons entering the building must pass through a metal detector. All items brought to CDC are subject to inspection.

FOR FURTHER INFORMATION CONTACT: Angela Wagner, Portfolio Manager, Centers for Disease Control and Prevention, 1600 Clifton Road NE., MS-K96, Atlanta, Georgia 30329, Telephone: (770) 488-8170 or Email: amso@cdc.gov.

SUPPLEMENTARY INFORMATION: The Centers for Disease Control and Prevention (CDC) within the U.S. Department of Health and Human Services (HHS), has prepared a Draft Environmental Assessment (Draft EA) to assess the potential impacts associated with the implementation of the CDC Chamblee Campus 2025 Master Plan (Master Plan) for HHS/CDC's Chamblee Campus located at 4770 Buford Highway, Chamblee, Georgia. An update to the previous Master Plan was prepared to guide the future development of the Chamblee Campus for the planning horizon of 2017 to 2025, corresponding to the growing research needs in support of HHS/CDC's mission, and the specific requirements of its component organizations.

HHS/CDC analyzed two alternatives in the Draft EA: The Proposed Action and the No Build Alternative. The Proposed Action assessed in the Draft EA is the implementation of the CDC Chamblee Campus 2025 Master Plan (Master Plan). The Master Plan provides a framework for future growth on the Chamblee Campus in order to ensure that the campus can support HHS/CDC's mission and to guide strategic decisions about the allocation of Federal resources. The Master Plan identifies a number of potential improvements to be completed through the 2025 timeframe, and establishes design and planning guidelines. Improvements proposed under the Master Plan include new laboratory construction, new office building construction, parking expansion, off-campus office consolidation and additional infrastructure upgrades.

The No Build Alternative represents continued operation of the existing facilities at the Chamblee Campus without any new construction or major building additions over the planning period from 2017 to 2025. Under the No Build Alternative, two existing buildings and three trailers on the campus would be demolished. The employee population at the Chamblee Campus is projected to increase by approximately 367 new occupants under the No Build Alternative due to potential background growth of existing Campus programs.

The Draft EA evaluates the potential environmental impacts that may result from the Proposed Action (referred to as the Build Alternative) and the No Build Alternative on the natural and built environment. Potential impacts of each alternative are evaluated on the following resource categories: Socioeconomics; land use; zoning; public policy; community facilities; transportation; air quality; noise; cultural resources; urban design and visual resources; natural resources; utilities; waste; and greenhouse gases and sustainability. The Draft EA identifies measures to mitigate potential adverse impacts.

Availability of the Draft EA: Copies of the Draft EA have been distributed to Federal, State, and local agencies and organizations. The Draft EA is available online in the Federal eRulemaking Portal at www.regulations.gov, identified by Docket No. CDC-2017-0019. Copies of the Draft EA are also available at:

Chamblee Public Library, 4115 Clairmont Road, Chamblee GA 30341, Telephone: (770) 936-1380.

Doraville Public Library, 3748 Central Ave, Doraville, GA 30340, Telephone: (770) 936-3852.

Brookhaven Branch Public Library, 1242 N. Druid Hills Rd NE., Atlanta, GA 30319, Telephone: (404) 848-7140.

Chamblee City Hall, 5468 Peachtree Road, Chamblee, GA 30341, Telephone: (770) 986-5010.

Paper and electronic copies can also be requested as instructed in the ADDRESSES section of this document.

Public Meeting: A public meeting will be held on Wednesday, April 19, 2017 at 2400 Century Center, Century Pkwy. NE., Atlanta, Georgia 30345. The public meeting will consist of an Open House from 6:00 p.m. to 8:00 p.m. EDT. The meeting will be an open house where attendees can learn more about the Master Plan and Draft EA, ask questions, and submit comments in writing.

Dated: March 15, 2017.
Sandra Cashman,
Executive Secretary, Centers for Disease Control and Prevention.

[FR Doc. 2017-05624 Filed 3-21-17; 8:45 am]

BILLING CODE 4163-18-P